DEPARTMENT OF TRANSPORTATION

Federal Aviation Administration

14 CFR Part 39

[Docket No. FAA-2007-28300; Directorate Identifier 2006-NM-292-AD; Amendment 39-15173; AD 2007-17-15]

RIN 2120-AA64

Airworthiness Directives; Airbus Model A300 Series Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

The Chromic Acid Anodising (CAA) Lead Fleet Program was established in 1989 to observe corrosion/debonding behaviour of CAA-treated panels. CAA lead fleet includes the inspection of lap joints, circumferential joints, stringers and doublers on selected aircraft.

The findings in combination with analytical corrosion investigations have been analysed by the TC (type certificate) holder and an appropriate inspection program for debonding has been developed.

This airworthiness directive requires inspection of the concerned areas to detect any corrosion and/or debonding which could affect the structural integrity. * * *

The proposed AD would require actions that are intended to address the unsafe condition described in the MCAI.

DATES: This AD becomes effective October 2, 2007.

The Director of the Federal Register approved the incorporation by reference of a certain publication listed in this AD as of October 2, 2007.

ADDRESSES: You may examine the AD docket on the Internet at http://dms.dot.gov or in person at the U.S. Department of Transportation, Docket Operations, M-30, West Building Ground Floor, Room W12-140, 1200 New Jersey Avenue, SE., Washington, DC.

FOR FURTHER INFORMATION CONTACT: Tom Stafford, Aerospace Engineer, International Branch, ANM-116, Transport Airplane Directorate, FAA, 1601 Lind Avenue, SW., Renton, Washington 98057-3356; telephone (425) 227-1622; fax (425) 227-1149.

SUPPLEMENTARY INFORMATION:

Discussion

We issued a notice of proposed rulemaking (NPRM) to amend 14 CFR part 39 to include an AD that would apply to the specified products. That NPRM was published in the Federal Register on May 29, 2007 (72 FR 29449). That NPRM proposed to correct an unsafe condition for the specified products. The MCAI states:

The Chromic Acid Anodising (CAA) Lead Fleet Program was established in 1989 to observe corrosion/debonding behaviour of CAA-treated panels. CAA lead fleet includes the inspection of lap joints, circumferential joints, stringers and doublers on selected aircraft.

The findings in combination with analytical corrosion investigations have been analysed by the TC (type certificate) holder and an appropriate inspection program for debonding has been developed.

This airworthiness directive requires inspection of the concerned areas [including repetitive inspections of certain areas] to detect any corrosion and/or debonding which could affect the structural integrity. * * *

If any discrepancies are found, repair and follow-up actions (additional inspections for debonding and corrosion depth) are required.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

Based on the service information, we estimate that this AD affects about 12 products of U.S. registry. We also estimate that it takes 102 work-hours per product to comply with the basic requirements of this AD. The average labor rate is $80 per work-hour. Based on these figures, we estimate the cost of the AD on U.S. operators to be $97,920, or $8,160 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://dms.dot.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-17-15 Airbus: Amendment 39-15173. Docket No. FAA-2007-28300; Directorate Identifier 2006-NM-292-AD.

Effective Date

(a) This airworthiness directive (AD) becomes effective October 2, 2007.

Affected ADs

(b) None.

Applicability

(c) This AD applies to Airbus Model A300 series aircraft, certificated in any category, manufacturing serial numbers (MSN) 0105 through 0107, 0116, 0117, 0121, 0123 through 0126, 0128, 0129, 0133 through 0141, 0146 through 0152, 0154 through 0157, 0160, 0163, 0170, 0173, 0175 through 0177, and 0180 through 0183.

Subject

(d) Air Transport Association (ATA) of America Code 53: Fuselage.

Reason

(e) The mandatory continuing airworthiness information (MCAI) states:

The Chromic Acid Anodising (CAA) Lead Fleet Program was established in 1989 to observe corrosion/debonding behaviour of CAA-treated panels. CAA lead fleet includes the inspection of lap joints, circumferential joints, stringers and doublers on selected aircraft.

The findings in combination with analytical corrosion investigations have been analysed by the TC (type certificate) holder and an appropriate inspection program for debonding has been developed.

This airworthiness directive requires inspection of the concerned areas [including repetitive inspections of certain areas] to detect any corrosion and/or debonding which could affect the structural integrity.* * *

If any discrepancies are found, repair and follow-up actions (additional inspections for debonding and corrosion depth) are required.

Actions and Compliance

(f) Unless already done, do the following actions.

(1) Except as provided by paragraphs (f)(2), (f)(3), and (f)(4) of this AD: Do the initial and repetitive inspections (including follow-up actions), as applicable; and do all applicable repairs; of the areas specified in paragraphs (f)(1)(i), (f)(1)(ii), (f)(1)(iii), and (f)(1)(iv) of this AD, in accordance with the Accomplishment Instructions of Airbus Service Bulletin A300-53-0378, dated September 4, 2006, and within the timescales specified in paragraph 1.E.(2), the Accomplishment Instructions, and the figures of the service bulletin.

(i) The bonded doubler in the longitudinal lap joint area between frame (FR)18 and FR80 (configurations 01 and 02 inspect FR18 through FR40; configuration 03 inspects FR18 through FR80).

(ii) The bonded wing doublers between stringer (STGR)22 LH/RH (left-hand/right-hand) and STGR43 LH/RH for debonding (configuration 01 of the service bulletin only).

(iii) The bonded doublers in the circumferential joint area between FR26 and FR80 (configurations 01 and 02 inspect FR26 through FR40; configuration 03 inspects FR26 through FR80).

(iv) The bonded doublers in the manhole area between FR23 RH and FR24 RH and between FR38.1 RH and FR38.2 RH.

(2) Where paragraph 1.E.(2) of Airbus Service Bulletin A300-53-0378, dated September 4, 2006, specifies a grace period from CN (Consigne de Navigabilité) issuance, this AD requires a grace period relative to the effective date of this AD.

(3) Where paragraph 1.E.(2) of Airbus Service Bulletin A300-53-0378, dated September 4, 2006, specifies a threshold, this AD requires that the inspections be done within the specified threshold relative to the first flight of the airplane.

(4) Where the Accomplishment Instructions and figures of Airbus Service Bulletin A300-53-0378, dated September 4, 2006, specify that inspections be done “yearly,” this AD requires those inspections to be done at intervals not to exceed 1 year.

FAA AD Differences

Note: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Stafford, Aerospace Engineer, International Branch, ANM-116, Transport Airplane Directorate, FAA, 1601 Lind Avenue, SW., Renton, Washington 98057-3356; telephone (425) 227-1622; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2006-0369, dated December 12, 2006; and Airbus Service Bulletin A300-53-0378, dated September 4, 2006, for related information.

Material Incorporated by Reference

(i) You must use Airbus Service Bulletin A300-53-0378, dated September 4, 2006, to do the actions required by this AD, unless the AD specifies otherwise.

(1) The Director of the Federal Register approved the incorporation by reference of this service information under 5 U.S.C. 552(a) and 1 CFR part 51.

(2) For service information identified in this AD, contact Airbus, 1 Rond Point Maurice Bellonte, 31707 Blagnac Cedex, France.

(3) You may review copies at the FAA, Transport Airplane Directorate, 1601 Lind Avenue SW., Renton, Washington; or at the National Archives and Records Administration (NARA). For information on the availability of this material at NARA, call (202) 741-6030, or go to: http://www.archives.gov/federal-register/cfr/ibr-locations.html.

Issued in Renton, Washington, on August 14, 2007.
Stephen P. Boyd,
Acting Manager, Transport Airplane Directorate, Aircraft Certification Service.

[FR Doc. E7-16672 Filed 8-27-07; 8:45 am]

BILLING CODE 4910-13-P